DEPARTMENT OF COMMERCE

National Oceanic and Atmospheric Administration

[I.D. 020303D]

Proposed Information Collection; Comment Request; Socioeconomic Monitoring Program for the Florida Keys National Marine Sanctuary

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 8, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Dr. Vernon Leeworthy, 301-713-3000, extension 138, or at Bob.Leeworthy@noaa.gov.

SUPPLEMENTARY INFORMATION:

I. Abstract

The purpose of this information collection is to obtain socioeconomic monitoring information in the Florida Keys National Marine Sanctuary (FKNMS). In 1997, regulations became effective that created a series of “no take zones” in the FKNMS. Monitoring programs are used to test the ecological and socioeconomic impacts of the "no take zones." Three voluntary data collection efforts support the socioeconomic monitoring program.

The first collection involves a set of four panels on commercial fishing operations, where commercial fishermen will be interviewed to assess financial performance and assess the impacts of Sanctuary regulations. Information on catch, effort, revenues, operating and capital costs will be obtained to do financial performance analysis. Information on socioeconomic factors for developing profiles of the commercial fishermen such as age, sex, education level, household income, marital status, number of family members, race/ethnicity, percent of income derived from fishing, percent of income derived from study area, years of experience in fishing will be gathered to compare panels with the general commercial fishing population. The data would be collected annually.

The second collection will monitor recreational for-hire operations through the use of dive logs for estimating use in the "no take areas" versus other areas for snorkeling, scuba diving and glass-bottom boat rides. Volunteers will collect the logbooks monthly.

The third collection will survey all users of "no take areas." Respondents will be asked to rate both the importance and satisfaction with various natural resource attributes and characteristics (e.g., water clarity, coral cover, number and diversity of sea life, etc.).

II. Method of Collection

Interviews will generally be used. The users surveys will also include a mailed questionnaire, and dive shops will be requested to maintain records.

III. Data

OMB Number: 0648-0409.

Form Number: None.

Type of Review: Regular submission.

Affected Public: Individuals or households, business or other for-profit organizations.

Estimated Number of Respondents: 788.

Estimated Time Per Response: 3 hours for a commercial fishing panel member; 10 hours for a dive shop; and 20 minutes for a questionnaire or telephone survey of a visitor to or a resident of a Sanctuary Preservation Area or Ecological Reserve.

Estimated Total Annual Burden Hours: 725.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology. Comments submitted in response to this notice will be summarized and/or included in the request for OMB approval of this information collection; they also will become a matter of public record.

Dated: January 31, 2003.
Gwellnar Banks
Management Analyst, Office of the Chief Information Officer.

[FR Doc. 03-3001 Filed 2-6-03; 8:45 am]

BILLING CODE 3510-NK-S